ENVIRONMENTAL PROTECTION AGENCY

[FRL-8223-6]

Proposed CERCLA Administrative Agreement for Recovery of Response Costs; Denova Superfund Site

AGENCY: Environmental Protection Agency.

ACTION: Notice; request for public comment.

SUMMARY: In accordance with section 122(i) of the Comprehensive Environmental Response, Compensation, and Liability Act, as amended by the Superfund Amendments and Reauthorization Act (“CERCLA”), 42 U.S.C. 9622(i), notice is hereby given of a proposed Agreement for Recovery of Response Costs (“Agreement,” Region 9 Docket No. 9-2006-0010) pursuant to section 122(h) of CERCLA concerning the Denova Superfund Site, (the “Site”), located in Rialto, California. The settling parties to the Agreement are Environmental Enterprises Inc., and Daniel J. McCabe.

The Agreement compensates EPA for past response costs related to the removal action taken at the Site. The Agreement provides for a total recovery of $75,000.00. The Agreement also provides the settling parties with contribution protection under CERCLA 113(f)(2) for response cost paid under the Agreement.

For thirty (30) days following the date of publication of this Notice, the Agency will receive written comments relating to the proposed Agreement. The Agency's response to any comments will be available for public inspection at the Agency's Region IX offices, located at 75 Hawthorne Street, San Francisco, California 94105.

DATES: Comments must be submitted on or before October 27, 2006.

ADDRESSES: The proposed Agreement may be obtained from Judith Winchell, Docket Clerk, telephone (415) 972-3124. Comments regarding the proposed Agreement should be addressed to Judith Winchell (SFD-7) at United States EPA Region IX, 75 Hawthorne Street, San Francisco, California 94105, and should reference the Denova Superfund Site, Rialto, California, and USEPA Docket No. 9-2006-0010.

FOR FURTHER INFORMATION CONTACT: Michele Benson, Office of Regional Counsel, telephone (415) 972-3918, U.S. EPA Region IX, 75 Hawthorne Street, San Francisco, California 94105.

Dated: August 10, 2006.
Keith A. Takata,
Director, Superfund Division.

[FR Doc. E6-15904 Filed 9-26-06; 8:45 am]

BILLING CODE 6560-50-P